DEPARTMENT OF HEALTH AND HUMAN SERVICES

Administration for Community Living

Expansion and Capacity Building Funding: Senior Medicare Patrol Program Project Grants

ACTION: Notice of intent to provide expansion and capacity building funding to the incumbent Senior Medicare Patrol (SMP) grantees under limited competition.

SUMMARY: The Administration for Community Living is announcing the application deadline and a single case deviation from maximum competition for the Senior Medicare Patrol (SMP) Program project grants. The SMP program has 54 SMP project grants which are currently awarded on two different three-year cycles with 26 awarded in one year and the other 28 awarded the following year. The purpose of this deviation is to award a 4th year non-competing continuation to the 26 SMP project grantees with a three (3) year budget period set to expire May 31, 2014 so that all 54 SMP project grants can be moved to the same competitive three (3) year cycle beginning in FY 2015.

Program Name: Senior Medicare Patrol.

Award Amount: $4,373,902 ($168,277 per grantee).

Project Period: 6/1/2011 to 5/31/2015.

Award Type: Cooperative Agreement.

Statutory Authority: Title IV and Title II of the Older Americans Act (42 U.S.C. 3032), as amended by the Older Americans Act Amendments of 2006 Public Law 109-365 and HIPAA of 1996 (Pub. L. 104-191)

Catalog of Federal Domestic Assistance (CFDA) Number: 93.048 Discretionary Projects

DATES:

• Application Submission deadline: April 21, 2014.

• The anticipated budget period start date is June 1, 2014.

I. Program Description

The Senior Medicare Patrol (SMP) program is a national program providing cooperative agreements to grantees in every state, the District of Columbia, Puerto Rico, Guam, and the U.S. Virgin Islands to help Medicare beneficiaries detect, prevent and report potential health care fraud, error and abuse. In doing so, they not only protect beneficiaries, they also help preserve the integrity of the Medicare program. Because this work often requires face-to-face contact to be most effective, SMPs nationwide recruit, train, and manage over 5,100 volunteers every year to help in this effort. The focus of the SMP program is providing beneficiary education to prevent the fraud before it ever occurs.

Justification for the Exception to Competition

Historically, the 54 SMP project grants have been awarded using two different three-year cycles with 26 awarded in one year and the other 28 awarded the following year. This was originally done to alleviate the administrative burden of awarding 54 new grants at one time. However, the SMP program has gone through a number of changes since its inception, as has the ACL. Given these changes the split award of the SMP project grants has become an administrative burden in itself by necessitating twice the effort to prepare and award the grants. Moving the 54 SMP grants to the same grant cycle will allow the program to move forward as one instead of two separate steps as needed with the current split grant cycle. Failure to move forward with this deviation would disrupt ACL's ability to improve and advance the SMP program as one cohesive and consistent program nationally.

II. Eligible Applicants

Incumbent Senior Medicare Patrol (SMP) grantees with award expiration dates of 5/31/14.

III. Evaluation Criteria

Information previously provided in semi-annual reports, as well as information in the non-competing extension application will be considered to determine satisfactory progress of the grantee project and ensure that proposed activities are within the approved scope and budget of the grant. Areas that will be evaluated include:

A. Project Relevance & Current Need

B. Approach

C. Budget

D. Project Impact

E. Organizational Capacity

IV. Application and Submission Requirments

A. SF 424—Application for Federal Assistance

B. SF 424A—Budget Information

C. Separate Budget Narrative/Justification

D. SF 424B—Assurances. Note: Be sure to complete this form according to instructions and have it signed and dated by the authorized representative (see item 18d of the SF 424).

E. Lobbying Certification

F. Program narrative—no more than 10 pages.

G. Work Plan

H. Grantees will be required to access the non-competing application kit in GrantSolutions.gov to submit all materials for this application.

V. Application Review Information

Applications will be objectively reviewed by Federal staff utilizing the criteria listed above in Section III.

VI. Agency Contact

For further information or comments regarding this program expansion supplement, contact Rebecca Kinney, U.S. Department of Health and Human Services, Administration for Community Living, Administration on Aging, Office of Elder Rights, One Massachusetts Avenue NW., Washington, DC 20001; telephone (202) 357-3520; fax (202) 357-3560; email Rebecca.Kinney@acl.hhs.gov.

Dated: March 14, 2014.
Kathy Greenlee,
Administrator and Assistant Secretary for Aging.

[FR Doc. 2014-06109 Filed 3-19-14; 8:45 am]

BILLING CODE 4154-01-P